OFFICE OF PERSONNEL MANAGEMENT

Excepted Service

AGENCY: Office of Personnel Management (OPM).

ACTION: Notice.

SUMMARY: This notice identifies Schedule A, B, and C appointing authorities applicable to a single agency that were established or revoked from January 1, 2020 to January 31, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during January 2020.

Schedule B

No Schedule B Authorities to report during January 2020.

Schedule C

The following Schedule C appointing authorities were approved during January 2020.

Agency name | Organization name | Position title | Authorization number | Effective date
DEPARTMENT OF AGRICULTURE | Office of the Under Secretary for Farm Production and Conservation | Policy Advisor | DA200035 | 01/09/2020
| Office of Under Secretary for Natural Resources and Environment | Senior Policy Advisor | DA200021 | 01/10/2020
| Office of the Assistant Secretary for Congressional Relations | Director of Intergovernmental Affairs | DA200042 | 01/22/2020
| Farm Service Agency | State Executive Director—Tennessee | DA200040 | 01/23/2020
DEPARTMENT OF COMMERCE | Bureau of Industry and Security | Senior Advisor | DC200059 | 01/30/2020
| Office of Business Liaison | Senior Advisor for Policy and Engagement | DC200048 | 01/31/2020
| Office of Legislative and Intergovernmental Affairs | Confidential Assistant | DC200014 | 01/31/2020
| Office of the Chief Financial Officer and Assistant Secretary for Administration | Special Assistant | DC200050 | 01/17/2020
| Office of the Chief of Staff | Senior Advisor | DC200003 | 01/17/2020
| Office of the Deputy Secretary | Senior Advisor | DC200044 | 01/22/2020
| Office of the General Counsel | Confidential Assistant | DC200019 | 01/27/2020
|  | Counsel (2) | DC200028 | 01/03/2020
|  |  | DC200021 | 01/31/2020
| Office of White House Liaison | Confidential Assistant | DC200030 | 01/03/2020
|  | Director, Office of White House Liaison | DC200043 | 01/31/2020
DEPARTMENT OF DEFENSE | Office of the Assistant Secretary of Defense (Legislative Affairs) | Special Assistant for Legislative Affairs | DD200058 | 01/14/2020
| Office of the Deputy Under Secretary for Policy | Deputy Assistant Secretary of Defense China | DD200063 | 01/14/2020
| Washington Headquarters Services | Defense Fellow | DD200059 | 01/27/2020
DEPARTMENT OF EDUCATION | Office of the General Counsel | Confidential Assistant | DB200024 | 01/09/2020
DEPARTMENT OF ENERGY | Office of the Assistant Secretary for International Affairs | Deputy Chief of Staff | DE200045 | 01/06/2020
| Office of the Assistant Secretary for Fossil Energy | Senior Advisor | DE200056 | 01/16/2020
| Office of the Assistant Secretary for Energy Efficiency and Renewable Energy | Special Assistant | DE200057 | 01/16/2020
ENVIRONMENTAL PROTECTION AGENCY | Office of the Assistant Administrator for Research and Development | Senior Science Advisor | EP200027 | 01/13/2020
| Office of the Administrator | Special Advisor for Operations | EP200028 | 01/22/2020
| Office of the Executive Secretariat | Attorney-Advisor | EP200030 | 01/22/2020
| Region IV—San Francisco, California | Senior Advisor for Policy and Congressional Affairs | EP200023 | 01/24/2020
EXPORT-IMPORT BANK | Office of the Chairman | Special Advisor and Deputy Scheduler | EB200009 | 01/30/2020
GENERAL SERVICES ADMINISTRATION | Office of Strategic Communication | Speechwriter | GS200024 | 01/23/2020
| Office of Congressional and Intergovernmental Affairs | Congressional Policy Analyst | GS200025 | 01/30/2020
|  | Policy Advisor | GS200026 | 01/30/2020
DEPARTMENT OF HEALTH AND HUMAN SERVICES | Centers for Medicare and Medicaid Services | Senior Advisor | DH200011 | 01/10/2020
| Office of Intergovernmental and External Affairs | Regional Director, Denver, Colorado, Region VIII | DH200049 | 01/10/2020
| Office of the Assistant Secretary for Preparedness and Response | Senior Advisor | DH200051 | 01/27/2020
| Office of the General Counsel | Advisor and Legal Counsel | DH200047 | 01/07/2020
| Office of the Secretary | Deputy Scheduler | DH200054 | 01/03/2020
|  | Advisor for Value-Based Transformation | DH200059 | 01/16/2020
DEPARTMENT OF HOMELAND SECURITY | Federal Emergency Management Agency | Deputy Press Secretary | DM200116 | 01/28/2020
| Office of Countering Weapons of Mass Destruction | Senior Advisor | DM200117 | 01/27/2020
| Office of the Assistant Secretary for Public Affairs | Director of Strategic Communications | DM200038 | 01/02/2020
|  | Press Secretary | DM200083 | 01/09/2020
|  | Speechwriter | DM200102 | 01/09/2020
| Office of the General Counsel | Oversight Counsel | DM200097 | 01/09/2020
| Office of Citizenship and Immigration Services | Senior Advisor (3) | DM200023 | 01/02/2020
|  |  | DM200081 | 01/02/2020
|  |  | DM200091 | 01/08/2020
| Office of Customs and Border Protection | Assistant Press Secretary | DM200098 | 01/09/2020
DEPARTMENT OF HOUSING AND URBAN DEVELOPMENT | Office of Community Planning and Development | Senior Advisor (2) | DU200039 | 01/03/2020
|  |  | DU200045 | 01/14/2020
| Office of Faith-Based and Community Initiatives | Special Advisor | DU200038 | 01/24/2020
| Office of the General Counsel | Senior Counsel | DU200044 | 01/27/2020
DEPARTMENT OF JUSTICE | Office of the Attorney General | White House Liaison Officer and Special Assistant | DJ200041 | 01/06/2020
| Office of Violence Against Women | Advisor | DJ200017 | 01/23/2020
| Office of Justice Programs | Special Advisor for Policy and Communications | DJ200065 | 01/30/2020
DEPARTMENT OF LABOR | Office of Congressional and Intergovernmental Affairs | Regional Representative | DL200043 | 01/14/2020
| Office of the Secretary | Advance Representative | DL200052 | 01/24/2020
|  | Special Assistant (2) | DL200045 | 01/14/2020
|  |  | DL200042 | 01/30/2020
| Office of Wage and Hour Division | Senior Policy Advisor | DL200051 | 01/23/2020
OFFICE OF MANAGEMENT AND BUDGET | Office of Information and Regulatory Affairs | Senior Advisor | BO200019 | 01/27/2020
| Office of the Director | Confidential Assistant | BO200020 | 01/30/2020
OFFICE OF PERSONNEL MANAGEMENT | Office of Congressional, Legislative, and Intergovernmental Affairs | Legislative Analyst | PM200012 | 01/10/2020
| Presidents Commission on White House Fellowships | Confidential Assistant | PM200014 | 01/31/2020
SMALL BUSINESS ADMINISTRATION | Office of Investment and Innovation | Senior Advisor | SB200006 | 01/22/2020
| Office of Communications and Public Liaison | Digital Media Manager | SB200009 | 01/23/2020
SOCIAL SECURITY ADMINISTRATION | Office of the Commissioner | Special Assistant | SZ200013 | 01/31/2020
DEPARTMENT OF STATE | Bureau of Overseas Buildings Operations | Senior Strategic Advisor | DS200033 | 01/16/2020
| Bureau of Legislative Affairs | Special Advisor | DS200036 | 01/22/2020
| Bureau of Global Public Affairs | Special Advisor | DS200032 | 01/27/2020
DEPARTMENT OF TRANSPORTATION | Office of the Secretary | Deputy White House Liaison | DT200064 | 01/09/2020
| Office of the Assistant Secretary for Transportation Policy | Special Assistant | DT200065 | 01/14/2020
| Office of the Executive Secretariat | Special Assistant | DT200070 | 01/30/2020
DEPARTMENT OF THE TREASURY | Office of the Assistant Secretary (Legislative Affairs) | Special Advisor | DY200032 | 01/24/2020
| Secretary of the Treasury | Advance Representative | DY200030 | 01/10/2020
|  | Special Assistant | DY200041 | 01/30/2020
| Treasurer of the United States | Senior Advisor | DY200033 | 01/16/2020
| Office of the Under Secretary for Terrorism and Financial Intelligence | Special Assistant | DY200042 | 01/22/2020

The following Schedule C appointing authorities were revoked during January 2020.

Agency name | Organization name | Position title | Request number | Date vacated
DEPARTMENT OF AGRICULTURE | Rural Utilities Service | Policy Advisor | DA190080 | 01/03/2020
| Office of the Assistant Secretary for Congressional Relations | Policy Advisor | DA180243 | 01/18/2020
| Office of Under Secretary for Natural Resources and Environment | Staff Assistant | DA180169 | 01/18/2020
DEPARTMENT OF COMMERCE | Office of the Chief Financial Officer and Assistant Secretary for Administration | Confidential Assistant | DC190027 | 01/10/2020
DEPARTMENT OF HEALTH AND HUMAN SERVICES | Office of the General Counsel | Law Clerk | DH190201 | 01/06/2020
| Center for Consumer Information and Insurance Oversight | Senior Advisor | DH170342 | 01/18/2020
| Office of the Secretary | Advisor | DH190089 | 01/18/2020
DEPARTMENT OF JUSTICE | Office of the Attorney General | Special Assistant | DJ190237 | 01/04/2020
| Office of Public Affairs | Public Affairs Specialist | DJ170102 | 01/18/2020
| Office of Legal Policy | Senior Counsel | DJ180106 | 01/31/2020
OFFICE OF THE SECRETARY OF DEFENSE | Office of the Under Secretary of Defense (Acquisition, Technology, and Logistics) | Special Assistant | DD190012 | 01/04/2020
| Office of the Assistant Secretary of Defense (Legislative Affairs) | Special Assistant (2) | DD190145 | 01/04/2020
|  |  | DD190174 | 01/04/2020
| Office of the Assistant to the Secretary of Defense (Public Affairs) | Special Assistant | DD190001 | 01/18/2020
| Washington Headquarters Services | Defense Fellow | DD190169 | 01/18/2020
DEPARTMENT OF THE ARMY | Office of the Assistant Secretary Army (Acquisition, Logistics and Technology) | Special Assistant | DW190032 | 01/18/2020
DEPARTMENT OF STATE | Office of the Counselor | Staff Assistant | DS180074 | 01/04/2020
DEPARTMENT OF THE ARMY | Office of the Assistant Secretary Army (Acquisition, Logistics and Technology) | Special Assistant to the Deputy Assistant Secretary of the Army (Strategy and Acquisition Reform) | DW190032 | 01/18/2020
DEPARTMENT OF VETERANS AFFAIRS | Veterans Benefits Administration | Deputy Chief of Staff | DV180036 | 01/04/2020
| Office of the General Counsel | Counselor (Healthcare) | DV190032 | 01/27/2020
ENVIRONMENTAL PROTECTION AGENCY | Office of the Associate Administrator for Congressional and Intergovernmental Relations | House Relations Specialist | EP190061 | 01/11/2020
ENVIRONMENTAL PROTECTION AGENCY | Office of the Associate Administrator for Policy | Senior for Science and Policy | EP190128 | 01/18/2020
EXPORT-IMPORT BANK | Office of the Chairman | Director of Scheduling | EB190008 | 01/18/2020
OCCUPATIONAL SAFETY AND HEALTH REVIEW COMMISSION | Occupational Safety and Health Review Commission | Confidential Assistant to the Chairman | SH190003 | 01/03/2020
OFFICE OF PERSONNEL MANAGEMENT | Office of the Director | Senior Advisor to the Director | PM200007 | 01/04/2020
|  | Confidential Assistant to the Deputy Director | PM190036 | 01/11/2020
| Office of Communications | Senior Press Officer | PM200001 | 01/24/2020
SMALL BUSINESS ADMINISTRATION | Office of Congressional and Legislative Affairs | Deputy Assistant Administrator | SB180043 | 01/10/2020

(Authority: 5 U.S.C. 3301 and 3302; E.O. 10577, 3 CFR, 1954-1958 Comp., p. 218)

Office of Personnel Management.
Alexys Stanley,
Regulatory Affairs Analyst.

[FR Doc. 2020-17687 Filed 8-12-20; 8:45 am]

BILLING CODE 6325-39-P